ENVIRONMENTAL PROTECTION AGENCY

[FRL-9954-01-OA]

Farm, Ranch, and Rural Communities Committee Teleconference

AGENCY: Environmental Protection Agency (EPA).

ACTION: Notice of Public Advisory Committee Teleconference.

SUMMARY: Under the Federal Advisory Committee Act, Public Law 92-463, EPA gives notice of a teleconference meeting of the Farm, Ranch, and Rural Communities Committee (FRRCC). The FRRCC is a policy-oriented committee that provides policy advice, information, and recommendations to the EPA Administrator on a range of environmental issues and policies that are of importance to agriculture and rural communities.

Purpose of Meeting: The purpose of this teleconference is to discuss specific recommendations that were drafted by the Committee at the May 2016 meeting and finalize any outstanding comments. Recommendations regarding soil health and outreach, when finalized, will be transmitted to the Agency and made available to the public.

DATES: The Farm, Ranch, and Rural Communities Committee will hold a public teleconference on October 27th, 2016 from 2:00 p.m. until 4:00 p.m. Eastern Standard Time.

ADDRESSES: The meeting will be held at the U.S. EPA North Building, 1200 Constitution Avenue NW., Room 2317, Washington, DC 20004.

FOR FURTHER INFORMATION CONTACT: Lena Ferris, Acting Designated Federal Officer, ferris.lena@epa.gov, 202-564-8831, US EPA, Office of the Administrator (1101A), 1200 Pennsylvania Avenue NW., Washington, DC 20460.

SUPPLEMENTARY INFORMATION: Members of the public wishing to gain access to the teleconference, make brief oral comments, or provide a written statement to the FRRCC must contact Lena Ferris, Acting Designated Federal Officer, at ferris.lena@epa.gov, or 202-564-8831 by October 25th, 2016.

General Information: The agenda and meeting materials will be available at www.epa.gov/faca/frrcc. General information about the FRRCC can be found on the same Web site.

Meeting Access: For information on access or services for individuals with disabilities or to request accommodations please contact Lena Ferris, Acting Designated Federal Officer, at ferris.lena@epa.gov, or 202-564-8831 as soon as possible to allow EPA as much time as possible to process your request.

Dated: October 5, 2016.
Lena Ferris,
Acting Designated Federal Officer.

[FR Doc. 2016-24490 Filed 10-7-16; 8:45 am]

BILLING CODE 6560-50-P